ENVIRONMENTAL PROTECTION AGENCY

[FRL-8004-2]

Calhoun Park Area Superfund Site; Charleston, Charleston County, SC; Notice of Proposed Settlement

AGENCY: Environmental Protection Agency.

ACTION: Notice of proposed settlement.

SUMMARY: Under Section 122(h)(1) of the Comprehensive Environmental Response, Compensation, and Liability Act (CERCLA), the Environmental Protection Agency (EPA) has proposed to settle claims for payment of all past cost, as well as future costs related to the Calhoun Park Area Site (“Site”) located in Charleston County, Charleston, South Carolina. EPA will consider public comments on the proposed settlement until January 3, 2006. EPA may withdraw from or modify the proposed settlement should such comments disclose facts or considerations which indicate the proposed settlement is inappropriate, improper, or inadequate.

Copies of the proposed settlement are available from: Ms. Paula V. Batchelor, U.S. Environmental Protection Agency, Region 4, Superfund Enforcement and Information Management Branch, Waste Management Division, 61 Forsyth Street, SW., Atlanta, Georgia 30303. 404/562-8887. Batchelor.Paula@EPA.Gov.

Written or e-mail comments may be submitted to Ms. Batchelor at the above address within thirty days of the date of publication.

Dated: November 10, 2005.
Rosalind H. Brown,
Chief, Superfund Enforcement and Information Management Branch, Waste Management Division.

[FR Doc. E5-6722 Filed 11-30-05; 8:45 am]

BILLING CODE 6560-50-P